DEPARTMENT OF TRANSPORTATION

Office of the Secretary

[Docket OST-02-12148]

Electronic Transmission and Storage of Drug Testing Information Federal Advisory Committee; Meeting

AGENCY: Office of the Secretary, Department of Transportation.

ACTION: Notice of Federal Advisory Committee meeting.

SUMMARY: Pursuant to the Federal Advisory Committee Act (Pub. L. 92-463, 86 Stat. 770) notice is hereby given that the Department of Transportation (DOT) Electronic Transmission and Storage of Drug Testing Information Federal Advisory Committee will meet in a public session on June 17-18, 2002, at the J.W. Marriott Hotel, 1331 Pennsylvania Avenue, NW., Washington, DC 20004. The purpose of the Committee is to recommend to the Department the type and level of electronic security that should be used for the transmission and storage of drug testing information, to assess the type of format and methodology that would be appropriate, and to recommend the level and type of electronic signature technology that would support the procedures used in the DOT drug and alcohol program.

DATES AND TIME: The Electronic Transmission and Storage of Drug Testing Information Federal Advisory Committee will meet in open session on June 17, 2002, from 8 a.m. to 5 p.m. and on June 18, 2002, from 8 a.m. to 2 p.m.

ADDRESSES: The meeting will take place at the J.W. Marriott Hotel, 1331 Pennsylvania Avenue, NW., Washington, DC 20004. The hotel is two blocks from the Metro Center stop and can be reached by using the 13th Street exit. Attendees, other than Committee members, who need lodging may obtain a discounted room rate directly from the hotel by referring to the “DOT Federal Advisory Committee” meeting. The hotel telephone number is (202) 393-2000. A limited number of rooms will be available at the discounted rate and reservations must be made by May 24, 2002.

FOR FURTHER INFORMATION CONTACT: Don Shatinsky, Office of Drug and Alcohol Policy and Compliance (ODAPC), Office of the Secretary, Department of Transportation, at voice (202) 366-3784, fax (202) 366-3897. A list of the committee members may be obtained from Minnie McDonald, ODAPC, at (202) 366-3784 and a copy will be posted in the docket.

SUPPLEMENTARY INFORMATION: The Department established its Procedures for Transportation Workplace Drug and Alcohol Testing Programs (49 CFR part 40) in 1989 and added alcohol testing to the rule in 1994. Part 40 provides uniformity in how drug and alcohol tests are conducted throughout the transportation industry and protects the integrity and confidentiality of the process. Thorough documentation is necessary to support all test results and any subsequent legal challenges. Since the beginning of drug testing, the DOT has sought ways to reduce the significant amount of paper documentation generated for the forensic accountability of drug test results. We are now in an era of various electronic capabilities which can further reduce the paper work burden. The transportation industry is asking us to move more in that direction. We want to accommodate this request, but we want to make sure that the integrity and confidentiality requirements of the program are maintained.

There are approximately 55 drug testing laboratories currently certified by the Department of Health and Human Services (HHS) to conduct drug testing for the transportation industry and for Federal agencies. Approximately 8.3 million transportation workers are in safety-sensitive designated positions requiring drug testing. All laboratories report DOT-mandated test results directly to physicians, designated as medical review officers (MRO). Under the original Part 40, these results were sent by mail or courier, generating substantial paper work requirements. The Department made modest changes when 49 CFR part 40 was updated and republished on December 19, 2000. We permitted greater use of faxes and scanned computer images for reporting test results. Additionally, for negative test results we permitted laboratories to send electronic reports to MROs, provided the laboratory and MRO ensured that the information is accurate and can be transmitted in such a manner as to prevent unauthorized access or release while it is transmitted or stored.

On June 15 and August 4, 2000, the Department, together with the Office of Management and Budget and HHS, held two public discussions related to development of “paperless” laboratories and implementation of electronic reporting by laboratories of drug testing results. Approximately 130 individuals participated in these meetings and in several informal working groups that were set up to review the current “state of the art” for secure transmission and storage of electronic information. The meetings' conclusions were twofold: One, there exist numerous effective and workable methods for the security of electronic transmission and storage of information; two, because of the array of methodologies existing, it is essential for the Department to establish minimum standards for the entire process. Many participants expressed interest in future participation as members of a Federal Advisory Committee to assist the Department and HHS in addressing issues of common interest and the impact of electronic documentation reporting and storage on forensic workplace drug testing.

The Department believes that the increased use of electronic reporting is both inevitable and beneficial. At the same time, we want to make sure that there are good, consistent minimum standards for the use of this technology, in order to protect the important integrity and confidentiality requirements of the program. For these reasons, DOT established the Electronic Transmission and Storage of Drug Testing Information Federal Advisory Committee. The purpose of the Committee is to recommend regulatory modifications it deems necessary if Part 40 is to accommodate newer electronic technology. The Committee will assess the current status of electronic security technology and will make recommendations about consistent minimum standards for its use in the transmission and storage of drug testing results. Additionally, the Committee will examine the formats and methodologies used in transmitting electronic information, as well as the concept, parameters, and procedures used in implementing electronic signature technology within the frame work of the DOT drug and alcohol testing program. The Committee will advise DOT regarding these findings. The Department anticipates that, following the receipt of the Committee's final recommendations, DOT will propose changes to Part 40 through a notice of proposed rulemaking that will result in minimum standards for security in transmission and storage of drug testing information and would result in a more widespread use of electronic technology in the program.

This will be the first meeting of the Committee. Two additional meetings are projected during the next 12 to 18 months. During the last meeting, the Committee will make final recommendations to the Department. Matters for discussion at the first meeting will be a review of the current laboratory procedures and data elements that are required as part of the laboratory reporting process, examination of the current state of the art in electronic transmission and storage security, a review of costs associated with the various options currently available, and implementation issues that will need to be considered to ensure that the transportation industry and the various parties supporting the industry's drug and alcohol testing program can meet the recommended minimum standards. In subsequent meetings, the Committee may also address the uses and limitations of electronic signature technology and issues related to its legal acceptability.

Tentative Agenda

Monday, June 17, 2002: 08:30 a.m.—Welcoming Comments and Introduction of the committee members; 9 a.m.—Summary of DOT Drug Testing and Update on Current Procedures Used by Laboratories; 10:30 a.m.—Discussion of Current Electronic Security Methodologies; 12 p.m.—Lunch; 1:15 p.m.—Current MRO Electronic Reporting; 3:30 p.m.—Public Comments or Presentations; 5:00 p.m.—End of First Day. Tuesday, June 18, 2002: 08:00 a.m.—Discussion of Options for Committee Consideration; 10:30 a.m.—Developing Committee Actions Needed for the Next Meeting; 12:00 p.m.—Closing Comments; 2:00 p.m.—End of Meeting.

The meeting will be open to the public on a first-come first-seated basis. Anyone needing special accommodations for persons with disabilities, please notify Minnie McDonald at (202) 366-3784 at least two weeks prior to the meeting.

Members of the public wishing to file a written statement with the DOT Electronic Transmission and Storage of Drug Testing Information Federal Advisory Committee may do so by submitting comments by mail or by delivering them to the Docket Clerk, Attn: Docket No. OST-02-12148, Department of Transportation, 400 7th Street, SW., Room PL-401, Washington, DC, 20590. Comments may also be faxed to the Docket Clerk at (202) 493-2251. Persons wishing their comments to be acknowledged should enclose a stamped, self-addressed postcard with their comments. The docket clerk will date stamp the postcard and return it to the sender. For the convenience of persons wishing to review the docket, it is requested that paper comments be sent in triplicate in an unbound format, no larger than 8½ by 11 inches, suitable for copying and electronic filing. Comments may be reviewed at the above address from 9 a.m. through 5 p.m. Monday through Friday. Commenters may also submit their comments electronically. Instructions for electronic submission may be found at the following Web address: http://dms.dot.gov/submit/. The public may also review docket comments electronically. The following web address provides instructions and access to the DOT electronic docket: http://dms.dot.gov/search/. Please use only one method for submission of your comments. Please do not send duplicates by submitting a written and an electronic version.

There will be a time allocated for the public to speak on any of the above agenda items. Please make your request for the opportunity to make a public comment in writing to Minnie McDonald, ODAPC, at (202) 366-3784, FAX (202) 366-3897, or e-mail address: minnie.mcdonald@ost.dot.gov/ two weeks prior to the meeting. Your notification should contain your name and corporate designation, consumer affiliation, or government designation. Please include your address, telephone number and e-mail in case there is reason to contact you regarding your presentation. Those wanting to make a verbal statement should also include a short statement describing the topic to be addressed. Requestors will ordinarily be allowed up to 10 minutes to present a topic, however, the time may be limited depending on the number of requestors. If you have submitted a written statement to the docket, there is no need to subsequently duplicate this information by an oral presentation.

The Department would be interested in hearing from the public about their experiences with use of electronic security systems, their effectiveness, problems with initiating such systems, initial cost and maintenance of the systems, practicality of use for small businesses, and any other factors that the Committee should review as part of its final recommendation to DOT. Please note that the Committee will not specifically address the “paperless laboratory” concept, since that process will require new rule making and will need to address issues such as use of electronic technology to fulfill legal requirements for evidential chain of custody procedures. The Committee will be looking at the broad application of electronic security technology as a general concept and not necessarily assessing specific current products on the market. However, entities wanting to address specific technologies and products may submit a short product description and performance data to the docket for the Committee's review.

The Committee meeting will be recorded and transcribed. Within a short time after the meeting, copies of the transcripts will be available on the DOT electronic docket.

Dated: April 18, 2002.
Kenneth C. Edgell,
Acting Director, Office of Drug and Alcohol Policy and Compliance, Department of Transportation.

[FR Doc. 02-10033 Filed 4-23-02; 8:45 am]

BILLING CODE 4910-62-P